DEPARTMENT OF TRANSPORTATION

Federal Highway Administration

[Docket No. FHWA-2024-0004]

Agency Information Collection Activities: Request for Comments for a New Information Collection

AGENCY: Federal Highway Administration (FHWA), DOT.

ACTION: Notice and request for comments.

SUMMARY: The FHWA invites public comments about our intention to request the Office of Management and Budget's (OMB) approval for an information collection, which is summarized below under Supplementary Information. We are required to publish this notice in the Federal Register by the Paperwork Reduction Act of 1995.

DATES: Please submit comments by March 25, 2024.

ADDRESSES: You may submit comments identified by DOT Docket ID Number 0004 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Ms. Cynthia Essenmacher, (202) 780-6178, Department of Transportation, Federal Highway Administration, Office of Operations, Office of Transportation Management (HOTM-1), 1200 New Jersey Avenue SE, Washington, DC 20590. Office hours are from 7 a.m. to 4:30 p.m., Monday through Friday, except Federal holidays.

SUPPLEMENTARY INFORMATION:

Title: Innovative Finance and Equal Access for Over the Road Busses.

Background:

Abstract Innovative Finance: The Federal Highway Administration (FHWA), Office of Operations and Office of the Chief Financial Officer, jointly collection information related to State Infrastructure Banks (SIB), Grant Anticipation Revenue Vehicles, and Toll Credits. This information is published on FHWA's public websites to monitor activity in each innovative finance program. This information satisfies the requirement under 23 U.S.C. 610(g)(7) for each SIB to make an annual report to the Secretary on its status no later than September 30 of each year and such other reports as the Secretary may require. The data will also satisfy new requirements under section 11503 of the Infrastructure Investment and Jobs Act (IIJA), Public Law 117-58, effective November 15, 2021, requiring the Secretary to make available a publicly accessible website on which States shall post the amount of toll credits that are available for sale or transfer.

The data includes activity, volume, and balances. The data is published annually on the Center for Innovative Finance's website. Information from this collection is used for the proper stewardship and oversight of each program, as well as compliance with each program's Federal statute.

Abstract Equal Access for Over the Road Busses: Section 11523 of the recently enacted Bipartisan Infrastructure Law (BIL), enacted as the Infrastructure Investment and Jobs Act, Public Law 117-58 (Nov. 15, 2021) amended 23 U.S.C. 129 to add reporting requirements to the equal access provisions for over the road busses. Specifically, not later than 90 days after the date of enactment of the BIL, a public authority that operates a toll facility shall report to the Secretary any rates, terms, or conditions for access to the toll facility by public transportation vehicles that differ from the rates, terms, or conditions applicable to over-the-road buses.

Further, a public authority that operates a toll facility shall report to the Secretary any change to the rates, terms, or conditions for access to the toll facility by public transportation vehicles that differ from the rates, terms, or conditions applicable to over-the-road buses by not later than 30 days after the date on which the change takes effect.

Respondents: State governments of the 50 States, the District of Columbia, the Commonwealth of Puerto Rico, Guam, American Samoa, the Northern Marianas, and the Virgin Islands share this burden.

Frequency: Annually August 1st to October 31st.

Estimated Average Burden per Response: The estimated average reporting burden per response for the annual collection and processing of the data is 149 hours for each of the States (including local governments), the District of Columbia, the Commonwealth of Puerto Rico, Guam, American Samoa, the Northern Marianas, and the Virgin Islands.

Estimated Total Annual Burden Hours: The estimated total annual burden for all respondents is 8,195 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: January 18, 2024.
Jazmyne Lewis,
Information Collection Officer.

[FR Doc. 2024-01276 Filed 1-23-24; 8:45 am]

BILLING CODE 4910-22-P